DEPARTMENT OF AGRICULTURE

Food Safety and Inspection Service

[Docket No. 04-045N]

Codex Alimentarius Commission: Thirty-Seventh Session of the Codex Committee on Food Additives and Contaminants

AGENCY: Food Safety and Inspection Service, USDA.

ACTION: Notice of public meeting, request for comments.

SUMMARY: The Office of the Under Secretary for Food Safety, United States Department of Agriculture (USDA), and the Food and Drug Administration (FDA), United States Department of Health and Human Services, are sponsoring a public meeting on March 9, 2005, to provide information and receive public comments on agenda items that will be discussed at the Thirty-seventh Session of the Codex Committee on Food Additives and Contaminants (CCFAC), which will be held in The Hague, The Netherlands, on April 25-29, 2005. The Under Secretary and FDA recognize the importance of providing interested parties the opportunity to obtain background information on the agenda items that will be discussed at this forthcoming session of the CCFAC.

DATES: The public meeting is scheduled for Wednesday, March 9, 2005, from 1 p.m. to 4 p.m.

ADDRESSES: The public meeting will be held in the Auditorium (Room 1A-003), Harvey W. Wiley Federal Building, 5100 Paint Branch Parkway, College Park, Maryland. Documents related to the 37th Session of the CCFAC will be accessible via the World Wide Web at the following address: http://www.codexalimentarius.net/current.asp.

FSIS invites interested persons to submit comments on this notice. Comments may be submitted by any of the following methods:

• Mail, including floppy disks or CD-ROM's and hand-or courier-delivered items: Send to Docket Clerk, U.S. Department of Agriculture, Food Safety and Inspection Service, 300 12th Street, SW., Room 102, Cotton Annex, Washington, DC 20250-3700.

All comments received must include the Agency name and docket number #04-045N.

All comments submitted in response to this notice, will be available for public inspection in the FSIS Docket Room at the address listed above between 8:30 a.m. and 4:30 p.m., Monday through Friday. The comments also will be posted on the Agency's Web site at http://www.fsis.usda.gov/regulations/2005_Notices_Index/.

FOR FURTHER INFORMATION CONTACT: About the 37th session of the CCFAC: U.S. Delegate, Dr. Terry Troxell, Director, Office of the Plant and Diary Foods and Beverages, Center for Food Safety and Applied Nutrition, FDA, Harvey W. Wiley Federal Building, 5100 Paint Branch Parkway (HFS-300), College Park, MD 20740, phone: (301) 436-1700, fax: (301) 436-2632, e-mail: terry.troxell@fda.hhs.gov.

About the public meeting: Ellen Matten, U.S. Codex Office, Food Safety and Inspection Service, Room 4861, South Building, 1400 Independence Avenue, SW., Washington, DC 20250-3700, phone: (202) 205-7760, fax: (202) 720-3157. Attendees are requested to pre-register as soon as possible by e-mail to (e-mail address: ccfac@cfsan.fda.gov.)

SUPPLEMENTARY INFORMATION:

Background

The Codex Alimentarius Commission (Codex) was established in 1962 by two United Nations organizations, the Food and Agriculture Organization (FAO) and the World Health Organization (WHO). Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Food Additives and Contaminants (CCFAC) establishes or endorses maximum or guideline levels for individual food additives, for contaminants (including environmental contaminants) and for naturally occurring toxicants in foodstuffs and animal feeds. In addition, the Committee prepares priority lists of food additives and contaminants for toxicological evaluation by the Joint FAO/WHO Expert Committee on Food Additives (JECFA); recommends specifications of identity and purity for food additives for adoption by the Commission; considers methods of analysis for the determination of food additives and contaminants in food; and considers and elaborates standards or codes for related subjects such as the labeling of food additives when sold as such, and food irradiation. The Committee is chaired by The Netherlands.

Issues To Be Discussed at the Public Meeting

Items on the provisional agenda of the 37th session of CCFAC to be discussed during the public meeting:

1. Matters referred or of interest to the committee arising from the Codex Alimentarius Commission and other Codex committees, including the endorsement or revision of maximum levels for food additives and contaminants in Codex commodity standards.

2. Summary reports of the 63rd and 64th meetings of the Joint Expert Committee for Food Additives (JECFA) and any actions required as a result of changes in the acceptable daily intake (ADI) status and other toxicological recommendations.

3. Consideration of the Codex General Standard for Food Additives (GSFA) including:

(a) Progress report of the working group on the working principles of the GSFA,

(b) Report of the electronic working group on the GSFA,

(c) Draft and proposed draft food additives provisions requiring information on their use, and

(d) Proposed draft food additive provisions at Step 3 and proposals for new uses.

4. Proposals for additions or amendments to the International Numbering System for Food Additives, including discussion papers on harmonizing the food additive class names used by Codex and JECFA, and a proposed definition of food additive carriers.

5. An updated Inventory of Processing Aids (IPA).

6. A discussion paper on flavoring agents with risk management options for CCFAC to consider.

7. Terms of reference for a Joint FAO/WHO expert group to conduct a comprehensive assessment of the use of active chlorine in food processing.

8. Specifications for the identity and purity of food additives.

9. Schedule 1 of the Codex General Standard for Contaminants and Toxins (GSCT) with proposed draft revisions.

10. Draft code of practice for the prevention and reduction of aflatoxin contamination in tree nuts.

11. Proposed draft maximum levels for aflatoxin in unprocessed and processed almonds, hazelnuts, and pistachios.

12. Proposed draft sampling plan for aflatoxin contamination in almonds, Brazil nuts, hazelnuts, and pistachios.

13. Discussion paper on aflatoxin contamination in Brazil nuts with risk management options for CCFAC to consider.

14. Information on deoxynivalenol (DON) contamination in cereal grains.

15. Information on mycotoxin contamination in sorghum.

16. Draft maximum levels for lead in fish, including a list of the major internationally traded fish species with proposals for lead maximum levels.

17. Proposed draft maximum levels for tin in food.

18. Draft code of practice for the prevention and reduction of inorganic tin contamination in canned foods.

19. Draft and proposed draft maximum levels for cadmium in rice, potatoes, wheat, vegetables, and mollusks.

20. Proposed draft code of practice for source directed measures to reduce dioxin and dioxin-like polychlorinated biphenyls (PCB) contamination of foods.

21. A discussion paper and proposed draft maximum levels for chloropropanols in food.

22. Discussion paper on acrylamide in food with risk management options for CCFAC to consider.

23. Discussion paper on polycyclic aromatic hydrocarbons in food with risk management options for CCFAC to consider.

24. Discussion paper on guideline levels for methylmercury in fish with risk management options for CCFAC to consider.

25. Draft revised guideline levels for radionuclides in foods for use in international trade.

26. Priority list of food additives, contaminants and naturally occurring toxicants proposed for evaluation by JECFA.

Each issue listed will be fully described in documents distributed, or to be distributed, by The Netherlands' Secretariat to the Meeting. Members of the public may access or request copies of these documents (see ADDRESSES).

Public Meeting

At the March 9, 2005, public meeting, the agenda items will be described and discussed, and attendees will have the opportunity to pose questions and offer comments. Written comments may be offered at the meeting or sent to the U.S. Delegate, for the 37th Session of the CCFAC, Dr. Terry Troxell (see ADDRESSES). Written comments should state that they relate to activities of the 37th Session of the CCFAC.

Additional Public Notification

Public awareness of all segments of rulemaking and policy development is important. Consequently, in an effort to ensure that the public and in particular minorities, women, and persons with disabilities are aware of this notice, FSIS will announce it on-line through the FSIS Web page. The Agency Web page is located at http://www.fsis.usda.gov.

FSIS also will make copies of this Federal Register publication available through the FSIS Constituent Update, which is used to provide information regarding FSIS policies, procedures, regulations, Federal Register notices, FSIS public meetings, recalls, and other types of information that could affect or would be of interest to our constituents and shareholders. The update is communicated via Listserv, a free e-mail subscription service consisting of industry, trade, and farm groups, allied health professionals, scientific professionals, and other individuals that have requested to be included. The update also is available on the FSIS Web page. Through Listserv and the Web page, FSIS is able to provide information to a much broader, more diverse audience.

Done in Washington, DC on January 24, 2005.
F. Edward Scarbrough,
U.S. Manager for Codex Alimentarius.

[FR Doc. 05-1612 Filed 1-27-05; 8:45 am]

BILLING CODE 3410-DM-P